FEDERAL MARITIME COMMISSION

Performance Review Board

AGENCY: Federal Maritime Commission.

ACTION: Notice.

SUMMARY: Notice is hereby given of the names of the members of the Performance Review Board.

FOR FURTHER INFORMATION CONTACT: William “Todd” Cole, Director Office of Human Resources, Federal Maritime Commission, 800 North Capitol Street NW., Washington, DC 20573.

SUPPLEMENTARY INFORMATION: Sec. 4314(c) (1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The Members of the Performance Review Board Are:

1. Michael A. Khouri, Commissioner

2. Richard A. Lidinsky, Jr., Commissioner

3. Rebecca F. Dye, Commissioner

4. William P. Doyle, Commissioner

5. Clay G. Guthridge, Administrative Law Judge

6. Erin M. Wirth, Administrative Law Judge

7. Florence A. Carr, Director, Bureau of Trade Analysis

8. Rebecca A. Fenneman, Director, Office of Consumer Affairs & Dispute Resolution Services

9. Karen V. Gregory, Secretary

10. Vern W. Hill, Director, Managing Director

11. Peter J. King, Director, Bureau of Enforcement

12. Sandra L. Kusumoto, Bureau of Certification and Licensing

13. Mary T. Hoang, Chief of Staff

14. Tyler J. Wood, General Council

Mario Cordero,
Chairman.

[FR Doc. 2015-30938 Filed 12-8-15; 8:45 am]

BILLING CODE 6731-AA-P